DEPARTMENT OF COMMERCE

International Trade Administration

[C-570-926]

Sodium Nitrite From the People's Republic of China: Continuation of Countervailing Duty Order

AGENCY: Enforcement and Compliance, International Trade Administration, Department of Commerce.

SUMMARY: As a result of determinations by the U.S. Department of Commerce (Commerce) and the U.S. International Trade Commission (ITC) that revocation of the countervailing duty (CVD) order on sodium nitrite from the People's Republic of China (China) would likely lead to the continuation or recurrence of countervailable subsidies, and material injury to an industry in the United States, Commerce is publishing a notice of continuation of this CVD order.

DATES: Applicable February 5, 2025.

FOR FURTHER INFORMATION CONTACT: Sarah Keith, AD/CVD Operations, Office VII, Enforcement and Compliance, International Trade Administration, U.S. Department of Commerce, 1401 Constitution Avenue NW, Washington, DC 20230; telephone: (202) 482-0264.

SUPPLEMENTARY INFORMATION:

Background

On August 27, 2008, Commerce published in the Federal Register the CVD order on sodium nitrite from China.¹ On July 1, 2024, the ITC instituted,² and Commerce initiated,³ the third sunset review of the Order, pursuant to section 751(c) of the Tariff Act of 1930, as amended (the Act). As a result of its review, Commerce determined that revocation of the Order would likely lead to the continuation or recurrence of countervailable subsidies, and therefore, notified the ITC of the magnitude of the net subsidy rates likely to prevail should the Order be revoked.⁴

¹ See Sodium Nitrite from the People's Republic of China: Countervailing Duty Order, 73 FR 50595 (August 27, 2008) (Order).

² See Sodium Nitrite from China and Germany; Institution of Five-Year Reviews, 89 FR 54536 (July 1, 2024).

³ See Initiation of Five-Year (Sunset) Reviews, 89 FR 54435 (July 1, 2024).

⁴ See Sodium Nitrite from the People's Republic of China: Final Results of Expedited Third Sunset Reviews of the Countervailing Duty Order, 89 FR 88967 (November 12, 2024), and accompanying Issues and Decision Memorandum (IDM).

On February 5, 2025, the ITC published its determination, pursuant to sections 751(c) and 752(a) of the Act, that revocation of the Order would likely lead to continuation or recurrence of material injury to an industry in the United States within a reasonably foreseeable time.⁵

⁵ See Sodium Nitrite from China and Germany, 90 FR 9044 (February 5, 2025) (ITC Final Determination).

Scope of the Order

The merchandise covered by this order is sodium nitrite in any form, at any purity level. In addition, the sodium nitrite covered by this order may or may not contain an anti-caking agent. Examples of names commonly used to reference sodium nitrite are nitrous acid, sodium salt, anti-rust, diazotizing salts, erinitrit, and filmerine. The chemical composition of sodium nitrite is NaNO and it is generally classified under subheading 2834.10.1000 of the Harmonized Tariff Schedule of the United States (HTSUS). The American Chemical Society Chemical Abstract Service (CAS) has assigned the name “sodium nitrite” to sodium nitrite. The CAS registry number is 7632-00-0.

While the HTSUS subheading, CAS registry number, and CAS name are provided for convenience and customs purposes, the written description of the scope of this order is dispositive.

Continuation of the Order

As a result of the determinations by Commerce and the ITC that revocation of the Order would likely lead to continuation or recurrence of countervailable subsidies, and material injury to an industry in the United States, pursuant to section 751(d)(2) of the Act, Commerce hereby orders the continuation of the Order. U.S. Customs and Border Protection will continue to collect CVD cash deposits at the rates in effect at the time of entry for all imports of subject merchandise.

The effective date of the continuation of the Order will be February 5, 2025.⁶ Pursuant to section 751(c)(2) of the Act and 19 CFR 351.218(c)(2), Commerce intends to initiate the next five-year review of the Order not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year (sunset) review and this notice are in accordance with sections 751(c) and 751(d)(2) of the Act, and published in accordance with section 777(i) of the Act and 19 CFR 351.218(f)(4).

Dated: February 24, 2025.
Christopher Abbott,
Deputy Assistant Secretary for Policy and Negotiations, performing the non-exclusive functions and duties of the Assistant Secretary for Enforcement and Compliance.

[FR Doc. 2025-03291 Filed 2-27-25; 8:45 am]

BILLING CODE 3510-DS-P